NUCLEAR REGULATORY COMMISSION

[Docket No. 40-9075-MLA; ASLBP No. 10-898-02-MLA-BD01]

Powertech USA, Inc. (Dewey-Burdock In Situ Uranium Recovery Facility); Notice of Atomic Safety and Licensing Board Reconstitution

Pursuant to 10 CFR 2.313(c) and 2.321(b), the Atomic Safety and Licensing Board in the above-captioned Dewey-Burdock In Situ Uranium Recovery Facility license amendment proceeding is hereby reconstituted by appointing Administrative Judge G. Paul Bollwerk, III, to serve as a Licensing Board member.¹

¹ Judge Bollwerk's appointment in this proceeding is necessitated by the death of Dr. Richard F. Cole, who was a member of this Licensing Board until his passing in December 2014. Dr. Cole served with distinction on the Atomic Safety and Licensing Board Panel for over four decades, having been appointed as a full-time Administrative Judge in 1973. See Powertech USA, Inc. (Dewey-Burdock In Situ Uranium Recovery Facility), LBP-15-16, __NRC __, __n.590 (slip op. at 115 n.590) (Apr. 30, 2015).

All correspondence, documents, and other materials shall continue to be filed in accordance with the NRC E-filing rule. See 10 CFR 2.302 et seq.

Rockville, Maryland.
Dated: June 9, 2015.
E. Roy Hawkens,
Chief Administrative Judge, Atomic Safety and Licensing Board Panel.

[FR Doc. 2015-14643 Filed 6-12-15; 8:45 am]

BILLING CODE 7590-01-P